DEPARTMENT OF ENERGY

National Nuclear Security Administration

Notice of Update to Advance Consent List

AGENCY: National Nuclear Security Administration, Department of Energy.

ACTION: Notice of update to advance consent list.

SUMMARY: The Department of Energy's National Nuclear Security Administration is providing notice of an update to the advance consent list of countries or destinations eligible to receive retransfers from the Republic of Korea (ROK) of unirradiated low enriched uranium, unirradiated source material, equipment, and components subject to paragraph 2 of Article 10 of the Agreement for Cooperation between the Government of the United States of America and the Government of the Republic of Korea Concerning Peaceful Uses of Nuclear Energy, done at Washington June 15, 2015, entered into force November 25, 2015 (“U.S.-ROK 123 Agreement”).

FOR FURTHER INFORMATION CONTACT: Ms. Andrea Ferkile, Director, Office of Nonproliferation Policy, National Nuclear Security Administration, Department of Energy, 1000 Independence Avenue SW, Washington, DC 20585, telephone: (202) 586-8868 or email: andrea.ferkile@nnsa.doe.gov.

SUPPLEMENTARY INFORMATION: Paragraph 2 of Article 10 of the U.S.-ROK 123 Agreement permits retransfers of the following to areas beyond the territorial jurisdiction of the receiving party if the United States and the ROK agree: nuclear material, moderator material, equipment, and components transferred pursuant to the U.S.-ROK 123 Agreement, and any special fissionable material produced through the use of any such nuclear material, moderator material, or equipment. Subsection 1.a. of Section 3 of the Agreed Minute to the U.S.-ROK 123 Agreement permits the United States and the ROK to retransfer unirradiated low enriched uranium, unirradiated source material, equipment, and components subject to paragraph 2 of Article 10 of the U.S.-ROK 123 Agreement to third countries or destinations. The United States and ROK exchanged lists of third countries or destinations for which retransfers of unirradiated low enriched uranium, unirradiated source material, equipment, and components subject to paragraph 2 of Article 10 of the U.S.-ROK 123 Agreement could be made by the other Party (“advance consent lists”). Subsection 1.a. of Section 3 permits either the United States or the ROK to delete third countries or destinations from either list temporarily or permanently following consultations with and written notice to the other Party.

The Agreement for Cooperation between the Government of the United States of America and the Government of the Arab Republic of Egypt Concerning Peaceful Uses of Nuclear Energy, signed at Washington June 29, 1981, expired December 29, 2021. The Agreement for Cooperation between the United States of America and the Republic of South Africa Concerning Peaceful Uses of Nuclear Energy, done at Pretoria August 25, 1995, entered into force December 4, 1997, expired December 4, 2022. In the absence of 123 agreements with Egypt and South Africa, these countries are being deleted from the advance consent list of countries or destinations eligible to receive retransfers from the ROK of unirradiated low enriched uranium, unirradiated source material, equipment, and components subject to paragraph 2 of Article 10 of the U.S.-ROK 123 Agreement.

Signing Authority

This document of the Department of Energy was signed on April 16, 2024, by Corey Hinderstein, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 2, 2024.
Treena V. Garrett,
Federal Register Liaison Officer, U.S. Department of Energy.

[FR Doc. 2024-09963 Filed 5-7-24; 8:45 am]

BILLING CODE 6450-01-P